POSTAL REGULATORY COMMISSION

39 CFR Part 3020

[Docket Nos. MC2010-21 and CP2010-36]

Update to Product Lists

AGENCY: Postal Regulatory Commission.

ACTION: Final rule.

SUMMARY: The Commission is updating the product lists. This action reflects a publication policy adopted by Commission order. The referenced policy assumes periodic updates. The updates are identified in the body of this document. The product list, which is re-published in its entirety, includes these updates.

DATES: Effective Date: April 21, 2017.

Applicability Dates: January 4, 2017, Priority Mail Contract 280 (MC2017-60 and CP2017-88); January 4, 2017, Priority Mail Express & Priority Mail Contract 39 (MC2017-63 and CP2017-91); January 4, 2017, Priority Mail Contract 281 (MC2017-61 and CP2017-89); January 4, 2017, Priority Mail Contract 279 (MC2017-59 and CP2017-87); January 4, 2017, First-Class Package Service Contract 71 (MC2017-62 and CP2017-90); January 5, 2017, Parcel Select Contract 18 (MC2017-65 and CP2017-93); January 5, 2017, Priority Mail Express & Priority Mail Contract 41 (MC2017-67 and CP2017-95); January 5, 2017, Priority Mail Contract 282 (MC2017-68 and CP2017-96); January 5, 2017, Parcel Select Contract 19 (MC2017-66 and CP2017-94); January 5, 2017, Priority Mail Express & Priority Mail Contract 40 (MC2017-64 and CP2017-92); January 6, 2017, First-Class Package Service Contract 72 (MC2017-70 and CP2017-98); January 6, 2017, Priority Mail Contract 283 (MC2017-69 and CP2017-97); January 9, 2017, Priority Mail Express & Priority Mail Contract 42 (MC2017-73 and CP2017-100); January 10, 2017, Priority Mail Contract 284 (MC2017-74 and CP2017-101); January 10, 2017, Priority Mail Contract 285 (MC2017-75 and CP2017-102); January 11, 2017, Priority Mail Contract 286 (MC2017-76 and CP2017-103); January 11, 2017, Global Expedited Package Services—Non-Published Rates Contract 11 (MC2017-72 and CP2017-99); January 17, 2017, Inbound Market Dominant PRIME Tracked Service Agreement (MC2017-71 and R2017-3); January 26, 2017, Parcel Select Contract 20 (MC2017-78 and CP2017-105); January 30, 2017, Priority Mail Contract 288 (MC2017-79 and CP2017-106); January 30, 2017, Priority Mail Contract 287 (MC2017-77 and CP2017-104); February 6, 2017, Priority Mail Contract 289 (MC2017-81 and CP2017-107); February 9, 2017, Priority Mail Express & Priority Mail Contract 43 (MC2017-83 and CP2017-112); February 14, 2017, Priority Mail Contract 290 (MC2017-84 and CP2017-113); February 14, 2017, Priority Mail Contract 293 (MC2017-87 and CP2017-116); February 14, 2017, Priority Mail Contract 292 (MC2017-86 and CP2017-115); February 14, 2017, Priority Mail Contract 291 (MC2017-85 and CP2017-114); February 14, 2017, Parcel Select & Parcel Return Service Contract 6 (MC2017-88 and CP2017-117); February 14, 2017, Parcel Select Contract 21 (MC2017-90 and CP2017-119); February 14, 2017, First-Class Package Service Contract 73 (MC2017-89 and CP2017-118); February 16, 2017, Alternative Delivery Provider 1 Contracts (MC2017-82 and CP2017-111); February 24, 2017, Priority Mail Contract 294 (MC2017-91 and CP2017-125); February 24, 2017, Priority Mail Express Contract 45 (MC2017-92 and CP2017-126); March 14, 2017, Priority Mail Contract 295 (MC2017-93 and CP2017-128); March 14, 2017, Priority Mail Contract 296 (MC2017-94 and CP2017-129); March 27, 2017, Priority Mail Express, Priority Mail & First-Class Package Service Contract 15 (MC2017-97 and CP2017-137); March 28, 2017, Priority Mail Contract 297 (MC2017-95 and CP2017-135); March 28, 2017, First-Class Package Service Contract 74 (MC2017-96 and CP2017-136); March 29, 2017, Priority Mail Contract 298 (MC2017-98 and CP2017-144); March 29, 2017, Priority Mail Express & Priority Mail Contract 44 (MC2017-99 and CP2017-145); November 15, 2016, Notice of Market-Dominant (Price Adjustment) (R2017-1); November 18, 2016, Competitive Products Price Changes Rates of General Applicability (CP2017-20).

FOR FURTHER INFORMATION CONTACT: David A. Trissell, General Counsel, at 202-789-6800.

SUPPLEMENTARY INFORMATION: This document identifies updates to the market dominant and the competitive product lists, which appear as 39 CFR Appendix A to Subpart A of Part 3020—Market Dominant Product List and 39 CFR Appendix B to Subpart A of Part 3020—Competitive Product List, respectively. Publication of the updated product lists in the Federal Register is addressed in the Postal Accountability and Enhancement Act (PAEA) of 2006.

Authorization. The Commission process for periodic publication of updates was established in Docket Nos. MC2010-21 and CP2010-36, Order No. 445, April 22, 2010, at 8.

Changes. The product lists are being updated by publishing replacements in their entirety of 39 CFR Appendix A to Subpart A of Part 3020—Market Dominant Product List and 39 CFR Appendix B to Subpart A of Part 3020—Competitive Product List. The following products are being added, removed, or moved within the product lists:

Market Dominant Product List

1. Inbound Market Dominant PRIME Tracked Service Agreement (MC2017-71 and R2017-3) (Order No. 3755), added January 17, 2017.

2. Notice of Market-Dominant (Price Adjustment) (R2017-1) (Order No. 3610), added November 15, 2016.

Competitive Product List

1. Priority Mail Contract 280 (MC2017-60 and CP2017-88) (Order No. 3719), added January 4, 2017.

2. Priority Mail Express & Priority Mail Contract 39 (MC2017-63 and CP2017-91) (Order No. 3720), added January 4, 2017.

3. Priority Mail Contract 281 (MC2017-61 and CP2017-89) (Order No. 3721), added January 4, 2017.

4. Priority Mail Contract 279 (MC2017-59 and CP2017-87) (Order No. 3722), added January 4, 2017.

5. First-Class Package Service Contract 71 (MC2017-62 and CP2017-90) (Order No. 3723), added January 4, 2017.

6. Parcel Select Contract 18 (MC2017-65 and CP2017-93) (Order No. 3724), added January 5, 2017.

7. Priority Mail Express & Priority Mail Contract 41 (MC2017-67 and CP2017-95) (Order No. 3725), added January 5, 2017.

8. Priority Mail Contract 282 (MC2017-68 and CP2017-96) (Order No. 3726), added January 5, 2017.

9. Parcel Select Contract 19 (MC2017-66 and CP2017-94) (Order No. 3727), added January 5, 2017.

10. Priority Mail Express & Priority Mail Contract 40 (MC2017-64 and CP2017-92) (Order No. 3728), added January 5, 2017.

11. First-Class Package Service Contract 72 (MC2017-70 and CP2017-98) (Order No. 3729), added January 6, 2017.

12. Priority Mail Contract 283 (MC2017-69 and CP2017-97) (Order No. 3730), added January 6, 2017.

13. Priority Mail Express & Priority Mail Contract 42 (MC2017-73 and CP2017-100) (Order No. 3732), added January 9, 2017.

14. Priority Mail Contract 284 (MC2017-74 and CP2017-101) (Order No. 3738), added January 10, 2017.

15. Priority Mail Contract 285 (MC2017-75 and CP2017-102) (Order No. 3739), added January 10, 2017.

16. Priority Mail Contract 286 (MC2017-76 and CP2017-103) (Order No. 3745), added January 11, 2017.

17. Global Expedited Package Services (GEPS)—Non-Published Rates 11 (MC2017-72 and CP2017-99) (Order No. 3746), added January 11, 2017.

18. Parcel Select Contract 20 (MC2017-78 and CP2017-105) (Order No. 3759), added January 26, 2017.

19. Priority Mail Contract 288 (MC2017-79 and CP2017-106) (Order No. 3762), added January 30, 2017.

20. Priority Mail Contract 287 (MC2017-77 and CP2017-104) (Order No. 3764), added January 30, 2017.

21. Priority Mail Contract 289 (MC2017-81 and CP2017-107) (Order No. 3774), added February 6, 2017.

22. Priority Mail Express & Priority Mail Contract 43 (MC2017-83 and CP2017-112) (Order No. 3779), added February 9, 2017.

23. Priority Mail Contract 290 (MC2017-84 and CP2017-113) (Order No. 3781), added February 14, 2017.

24. Priority Mail Contract 293 (MC2017-87 and CP2017-116) (Order No. 3782), added February 14, 2017.

25. Priority Mail Contract 292 (MC2017-86 and CP2017-115) (Order No. 3783), added February 14, 2017.

26. Priority Mail Contract 291 (MC2017-85 and CP2017-114) (Order No. 3784), added February 14, 2017.

27. Parcel Select & Parcel Return Service Contract 6 (MC2017-88 and CP2017-117) (Order No. 3785), added February 14, 2017.

28. Parcel Select Contract 21 (MC2017-90 and CP2017-119) (Order No. 3786), added February 14, 2017.

29. First-Class Package Service Contract 73 (MC2017-89 and CP2017-118) (Order No. 3787), added February 14, 2017.

30. Alternative Delivery Provider 1 Contracts (MC2017-82 and CP2017-111) (Order No. 3793), added February 16, 2017.

31. Priority Mail Contract 294 (MC2017-91 and CP2017-125) (Order No. 3801), added February 24, 2017.

32. Priority Mail Express Contract 45 (MC2017-92 and CP2017-126) (Order No. 3802), added February 24, 2017.

33. Priority Mail Contract 295 (MC2017-93 and CP2017-128) (Order No. 3814), added March 14, 2017.

34. Priority Mail Contract 296 (MC2017-94 and CP2017-129) (Order No. 3815), added March 14, 2017.

35. Priority Mail Express, Priority Mail & First-Class Package Service Contract 15 (MC2017-97 and CP2017-137) (Order No. 3830), added March 27, 2017.

36. Priority Mail Contract 297 (MC2017-95 and CP2017-135) (Order No. 3832), added March 28, 2017.

37. First-Class Package Service Contract 74 (MC2017-96 and CP2017-136) (Order No. 3833), added March 28, 2017.

38. Priority Mail Contract 298 (MC2017-98 and CP2017-144) (Order No. 3836), added March 29, 2017.

39. Priority Mail Express & Priority Mail Contract 44 (MC2017-99 and CP2017-145) (Order No. 3837), added March 29, 2017.

40. Competitive Products Price Changes Rates of General Applicability (CP2017-20) (Order No. 3622), added November 18, 2016.

The following negotiated service agreements have expired and are being deleted from the Competitive Product List:

1. Priority Mail Express Contract 8 (MC2010-16 and CP2010-16) (Order No. 379).

2. Priority Mail Express Contract 17 (MC2014-13 and CP2014-17) (Order No. 1947).

3. Priority Mail Express Contract 18 (MC2014-25 and CP2014-48) (Order No. 2072).

4. Priority Mail Express Contract 22 (MC2015-15 and CP2015-19) (Order No. 2307).

5. Priority Mail Express Contract 24 (MC2015-21 and CP2015-26) (Order No. 2311).

6. Priority Mail Express Contract 25 (MC2015-22 and CP2015-28) (Order No. 2318).

7. Priority Mail Express Contract 33 (MC2016-87 and CP2016-112) (Order No. 3136).

8. Priority Mail Contract 24 (MC2010-15 and CP2010-15) (Order No. 378).

9. Priority Mail Contract 65 (MC2013-63 and CP2013-83) (Order No. 1854).

10. Priority Mail Contract 73 (MC2014-11 and CP2014-15) (Order No. 1949).

11. Priority Mail Contract 74 (MC2014-15 and CP2014-24) (Order No. 1960).

12. Priority Mail Contract 75 (MC2014-16 and CP2014-25) (Order No. 1979).

13. Priority Mail Contract 76 (MC2014-17 and CP2014-26) (Order No. 1978).

14. Priority Mail Contract 79 (MC2014-20 and CP2014-33) (Order No. 2016).

15. Priority Mail Contract 83 (MC2014-31 and CP2014-56) (Order No. 2126).

16. Priority Mail Contract 84 (MC2014-33 and CP2014-59) (Order No. 2143).

17. Priority Mail Contract 86 (MC2014-35 and CP2014-61) (Order No. 2138).

18. Priority Mail Contract 89 (MC2014-39 and CP2014-72) (Order No. 2175).

19. Priority Mail Contract 91 (MC2014-45 and CP2014-81) (Order No. 2205).

20. Priority Mail Contract 97 (MC2015-5 and CP2015-6) (Order No. 2239).

21. Priority Mail Contract 100 (MC2015-10 and CP2015-13) (Order No. 2274).

22. Priority Mail Contract 101 (MC2015-11 and CP2015-14) (Order No. 2272).

23. Priority Mail Contract 102 (MC2015-13 and CP2015-16) (Order No. 2288).

24. Priority Mail Contract 103 (MC2015-17 and CP2015-21) (Order No. 2305).

25. Priority Mail Contract 105 (MC2015-20 and CP2015-25) (Order No. 2317).

26. Priority Mail Contract 108 (MC2015-27 and CP2015-36) (Order No. 2353).

27. Priority Mail Contract 109 (MC2015-28 and CP2015-37) (Order No. 2362).

28. Priority Mail Contract 112 (MC2015-32 and CP2015-42) (Order No. 2373).

29. Priority Mail Contract 114 (MC2015-34 and CP2015-45) (Order No. 2404).

30. Priority Mail Contract 116 (MC2015-36 and CP2015-47) (Order No. 2401).

31. Priority Mail Contract 118 (MC2015-38 and CP2015-49) (Order No. 2405).

32. Priority Mail Contract 120 (MC2015-40 and CP2015-51) (Order No. 2403).

33. Priority Mail Contract 122 (MC2015-46 and CP2015-57) (Order No. 2451).

34. Priority Mail Contract 124 (MC2015-53 and CP2015-81) (Order No. 2534).

35. Priority Mail Contract 128 (MC2015-61 and CP2015-92) (Order No. 2592).

36. Priority Mail Contract 129 (MC2015-62 and CP2015-93) (Order No. 2582).

37. Priority Mail Contract 135 (MC2015-71 and CP2015-109) (Order No. 2636).

38. Priority Mail Contract 139 (MC2015-76 and CP2015-120) (Order No. 2651).

39. Priority Mail Contract 142 (MC2015-82 and CP2015-138) (Order No. 2738).

40. Priority Mail Contract 143 (MC2015-83 and CP2015-139) (Order No. 2737).

41. Priority Mail Contract 147 (MC2016-4 and CP2016-4) (Order No. 2764).

42. Priority Mail Contract 151 (MC2016-12 and CP2016-14) (Order No. 2802).

43. Priority Mail Contract 162 (MC2016-31 and CP2016-37) (Order No. 2907).

44. Priority Mail Contract 165 (MC2016-39 and CP2016-48) (Order No. 3069).

45. Priority Mail Contract 173 (MC2016-50 and CP2016-65) (Order No. 3009).

46. Priority Mail Contract 182 (MC2016-68 and CP2016-83) (Order No. 3004).

47. Priority Mail Contract 184 (MC2016-66 and CP2016-81) (Order No. 2996).

48. Priority Mail Contract 187 (MC2016-79 and CP2016-104) (Order No. 3112).

49. Priority Mail Express & Priority Mail Contract 16 (MC2015-2 and CP2015-4) (Order No. 2232).

50. First-Class Package Service Contract 35 (MC2014-14 and CP2014-23) (Order No. 1975).

51. First-Class Package Service Contract 56 (MC2016-154 and CP2016-217) (Order No. 3391).

52. First-Class Package Service Contract 58 (MC2016-170 and CP2016-248) (Order No. 3452).

53. Priority Mail Express, Priority Mail & First-Class Package Service Contract 3 (MC2014-27 and CP2014-53) (Order No. 2106).

54. Priority Mail Express, Priority Mail & First-Class Package Service Contract 4 (MC2014-43 and CP2014-76) (Order No. 2183).

55. Priority Mail & First-Class Package Service Contract 3 (MC2015-45 and CP2015-56) (Order No. 2430).

56. Priority Mail & First-Class Package Service Contract 12 (MC2016-70 and CP2016-85) (Order No. 2998).

57. Priority Mail & First-Class Package Service Contract 14 (MC2016-88 and CP2016-113) (Order No. 3139).

Updated product lists. The referenced changes to the product lists are incorporated into 39 CFR Appendix A to Subpart A of Part 3020—Market Dominant Product List and 39 CFR Appendix B to Subpart A of Part 3020—Competitive Product List.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix A of Subpart A of Part 3020—Market Dominant Product List and Appendix B of Subpart A of Part 3020—Competitive Product List to read as follows:

Appendix A to Subpart A of Part 3020—Market Dominant Product List

(An asterisk (*) indicates an organizational class or group, not a Postal Service product.)

Part A—Market Dominant Products

1000 Market Dominant Product List

First-Class Mail*

Single-Piece Letters/Postcards

Presorted Letters/Postcards

Flats

Parcels

Outbound Single-Piece First-Class Mail International

Inbound Letter Post

USPS Marketing Mail (Commercial and Nonprofit)*

High Density and Saturation Letters

High Density and Saturation Flats/Parcels

Carrier Route

Letters

Flats

Parcels

Every Door Direct Mail—Retail

Periodicals*

In-County Periodicals

Outside County Periodicals

Package Services*

Alaska Bypass Service

Bound Printed Matter Flats

Bound Printed Matter Parcels

Media Mail/Library Mail

Special Services*

Ancillary Services

International Ancillary Services

Address Management Services

Caller Service

Credit Card Authentication

International Reply Coupon Service

International Business Reply Mail Service

Money Orders

Post Office Box Service

Customized Postage

Stamp Fulfillment Services

Negotiated Service Agreements*

Domestic*

PHI Acquisitions, Inc. Negotiated Service Agreement

International*

Inbound Market Dominant Multi-Service Agreements with Foreign Postal

Operators 1

Inbound Market Dominant Exprés Service Agreement 1

Inbound Market Dominant Registered Service Agreement 1

Inbound Market Dominant PRIME Tracked Service Agreement

Nonpostal Services*

Alliances with the Private Sector to Defray Cost of Key Postal Functions

Philatelic Sales

Market Tests*

Appendix B to Subpart A of Part 3020—Competitive Product List

Part B—Competitive Products

2000 Competitive Product List

Domestic Products*

Priority Mail Express

Priority Mail

Parcel Select

Parcel Return Service

First-Class Package Service

USPS Retail Ground

International Products*

Outbound International Expedited Services

Inbound Parcel Post (at UPU rates)

Outbound Priority Mail International

International Priority Airmail (IPA)

International Surface Air List (ISAL)

International Direct Sacks—M-Bags

Outbound Single-Piece First-Class Package International Service

Negotiated Service Agreements*

Domestic*

Priority Mail Express Contract 16

Priority Mail Express Contract 19

Priority Mail Express Contract 20

Priority Mail Express Contract 21

Priority Mail Express Contract 23

Priority Mail Express Contract 26

Priority Mail Express Contract 27

Priority Mail Express Contract 28

Priority Mail Express Contract 29

Priority Mail Express Contract 30

Priority Mail Express Contract 31

Priority Mail Express Contract 32

Priority Mail Express Contract 34

Priority Mail Express Contract 35

Priority Mail Express Contract 36

Priority Mail Express Contract 37

Priority Mail Express Contract 38

Priority Mail Express Contract 39

Priority Mail Express Contract 40

Priority Mail Express Contract 41

Priority Mail Express Contract 42

Priority Mail Express Contract 43

Priority Mail Express Contract 44

Priority Mail Express Contract 45

Parcel Return Service Contract 5

Parcel Return Service Contract 6

Parcel Return Service Contract 7

Parcel Return Service Contract 8

Parcel Return Service Contract 9

Parcel Return Service Contract 10

Priority Mail Contract 59

Priority Mail Contract 63

Priority Mail Contract 64

Priority Mail Contract 67

Priority Mail Contract 77

Priority Mail Contract 78

Priority Mail Contract 80

Priority Mail Contract 81

Priority Mail Contract 82

Priority Mail Contract 85

Priority Mail Contract 87

Priority Mail Contract 88

Priority Mail Contract 90

Priority Mail Contract 92

Priority Mail Contract 93

Priority Mail Contract 94

Priority Mail Contract 95

Priority Mail Contract 96

Priority Mail Contract 98

Priority Mail Contract 99

Priority Mail Contract 104

Priority Mail Contract 106

Priority Mail Contract 107

Priority Mail Contract 110

Priority Mail Contract 111

Priority Mail Contract 113

Priority Mail Contract 115

Priority Mail Contract 117

Priority Mail Contract 119

Priority Mail Contract 121

Priority Mail Contract 123

Priority Mail Contract 125

Priority Mail Contract 126

Priority Mail Contract 127

Priority Mail Contract 130

Priority Mail Contract 131

Priority Mail Contract 132

Priority Mail Contract 133

Priority Mail Contract 134

Priority Mail Contract 136

Priority Mail Contract 137

Priority Mail Contract 138

Priority Mail Contract 140

Priority Mail Contract 141

Priority Mail Contract 144

Priority Mail Contract 145

Priority Mail Contract 146

Priority Mail Contract 148

Priority Mail Contract 149

Priority Mail Contract 150

Priority Mail Contract 152

Priority Mail Contract 153

Priority Mail Contract 154

Priority Mail Contract 155

Priority Mail Contract 156

Priority Mail Contract 157

Priority Mail Contract 158

Priority Mail Contract 159

Priority Mail Contract 160

Priority Mail Contract 161

Priority Mail Contract 163

Priority Mail Contract 164

Priority Mail Contract 166

Priority Mail Contract 167

Priority Mail Contract 168

Priority Mail Contract 169

Priority Mail Contract 170

Priority Mail Contract 171

Priority Mail Contract 172

Priority Mail Contract 174

Priority Mail Contract 175

Priority Mail Contract 176

Priority Mail Contract 177

Priority Mail Contract 178

Priority Mail Contract 179

Priority Mail Contract 180

Priority Mail Contract 181

Priority Mail Contract 183

Priority Mail Contract 185

Priority Mail Contract 186

Priority Mail Contract 188

Priority Mail Contract 189

Priority Mail Contract 190

Priority Mail Contract 191

Priority Mail Contract 192

Priority Mail Contract 193

Priority Mail Contract 194

Priority Mail Contract 195

Priority Mail Contract 196

Priority Mail Contract 197

Priority Mail Contract 198

Priority Mail Contract 199

Priority Mail Contract 200

Priority Mail Contract 201

Priority Mail Contract 202

Priority Mail Contract 203

Priority Mail Contract 204

Priority Mail Contract 205

Priority Mail Contract 206

Priority Mail Contract 207

Priority Mail Contract 208

Priority Mail Contract 209

Priority Mail Contract 210

Priority Mail Contract 211

Priority Mail Contract 212

Priority Mail Contract 213

Priority Mail Contract 214

Priority Mail Contract 215

Priority Mail Contract 216

Priority Mail Contract 217

Priority Mail Contract 218

Priority Mail Contract 219

Priority Mail Contract 220

Priority Mail Contract 221

Priority Mail Contract 222

Priority Mail Contract 223

Priority Mail Contract 224

Priority Mail Contract 225

Priority Mail Contract 226

Priority Mail Contract 227

Priority Mail Contract 228

Priority Mail Contract 229

Priority Mail Contract 230

Priority Mail Contract 231

Priority Mail Contract 232

Priority Mail Contract 233

Priority Mail Contract 234

Priority Mail Contract 235

Priority Mail Contract 236

Priority Mail Contract 237

Priority Mail Contract 238

Priority Mail Contract 239

Priority Mail Contract 240

Priority Mail Contract 241

Priority Mail Contract 242

Priority Mail Contract 243

Priority Mail Contract 244

Priority Mail Contract 245

Priority Mail Contract 246

Priority Mail Contract 247

Priority Mail Contract 248

Priority Mail Contract 249

Priority Mail Contract 250

Priority Mail Contract 251

Priority Mail Contract 252

Priority Mail Contract 253

Priority Mail Contract 254

Priority Mail Contract 255

Priority Mail Contract 256

Priority Mail Contract 257

Priority Mail Contract 258

Priority Mail Contract 259

Priority Mail Contract 260

Priority Mail Contract 261

Priority Mail Contract 262

Priority Mail Contract 263

Priority Mail Contract 264

Priority Mail Contract 265

Priority Mail Contract 266

Priority Mail Contract 267

Priority Mail Contract 268

Priority Mail Contract 269

Priority Mail Contract 270

Priority Mail Contract 271

Priority Mail Contract 272

Priority Mail Contract 273

Priority Mail Contract 274

Priority Mail Contract 275

Priority Mail Contract 276

Priority Mail Contract 277

Priority Mail Contract 278

Priority Mail Contract 279

Priority Mail Contract 280

Priority Mail Contract 281

Priority Mail Contract 282

Priority Mail Contract 283

Priority Mail Contract 284

Priority Mail Contract 285

Priority Mail Contract 286

Priority Mail Contract 287

Priority Mail Contract 288

Priority Mail Contract 289

Priority Mail Contract 290

Priority Mail Contract 291

Priority Mail Contract 292

Priority Mail Contract 293

Priority Mail Contract 294

Priority Mail Contract 295

Priority Mail Contract 296

Priority Mail Contract 297

Priority Mail Contract 298

Priority Mail Express & Priority Mail Contract 10

Priority Mail Express & Priority Mail Contract 12

Priority Mail Express & Priority Mail Contract 13

Priority Mail Express & Priority Mail Contract 17

Priority Mail Express & Priority Mail Contract 18

Priority Mail Express & Priority Mail Contract 19

Priority Mail Express & Priority Mail Contract 20

Priority Mail Express & Priority Mail Contract 21

Priority Mail Express & Priority Mail Contract 22

Priority Mail Express & Priority Mail Contract 23

Priority Mail Express & Priority Mail Contract 24

Priority Mail Express & Priority Mail Contract 25

Priority Mail Express & Priority Mail Contract 27

Priority Mail Express & Priority Mail Contract 28

Priority Mail Express & Priority Mail Contract 29

Priority Mail Express & Priority Mail Contract 30

Priority Mail Express & Priority Mail Contract 31

Priority Mail Express & Priority Mail Contract 32

Priority Mail Express & Priority Mail Contract 33

Priority Mail Express & Priority Mail Contract 34

Priority Mail Express & Priority Mail Contract 35

Priority Mail Express & Priority Mail Contract 36

Priority Mail Express & Priority Mail Contract 37

Priority Mail Express & Priority Mail Contract 38

Priority Mail Express & Priority Mail Contract 39

Priority Mail Express & Priority Mail Contract 40

Priority Mail Express & Priority Mail Contract 41

Priority Mail Express & Priority Mail Contract 42

Priority Mail Express & Priority Mail Contract 43

Priority Mail Express & Priority Mail Contract 44

Parcel Select & Parcel Return Service Contract 3

Parcel Select & Parcel Return Service Contract 5

Parcel Select & Parcel Return Service Contract 6

Parcel Select Contract 2

Parcel Select Contract 8

Parcel Select Contract 9

Parcel Select Contract 10

Parcel Select Contract 11

Parcel Select Contract 12

Parcel Select Contract 13

Parcel Select Contract 14

Parcel Select Contract 15

Parcel Select Contract 16

Parcel Select Contract 17

Parcel Select Contract 18

Parcel Select Contract 19

Parcel Select Contract 20

Parcel Select Contract 21

Priority Mail—Non-Published Rates Priority Mail—Non-Published Rates 1

First-Class Package Service Contract 36

First-Class Package Service Contract 37

First-Class Package Service Contract 38

First-Class Package Service Contract 39

First-Class Package Service Contract 40

First-Class Package Service Contract 41

First-Class Package Service Contract 42

First-Class Package Service Contract 43

First-Class Package Service Contract 44

First-Class Package Service Contract 45

First-Class Package Service Contract 46

First-Class Package Service Contract 47

First-Class Package Service Contract 48

First-Class Package Service Contract 49

First-Class Package Service Contract 50

First-Class Package Service Contract 51

First-Class Package Service Contract 52

First-Class Package Service Contract 53

First-Class Package Service Contract 54

First-Class Package Service Contract 55

First-Class Package Service Contract 57

First-Class Package Service Contract 59

First-Class Package Service Contract 60

First-Class Package Service Contract 61

First-Class Package Service Contract 62

First-Class Package Service Contract 63

First-Class Package Service Contract 64

First-Class Package Service Contract 65

First-Class Package Service Contract 66

First-Class Package Service Contract 67

First-Class Package Service Contract 68

First-Class Package Service Contract 69

First-Class Package Service Contract 70

First-Class Package Service Contract 71

First-Class Package Service Contract 72

First-Class Package Service Contract 73

First-Class Package Service Contract 74

Priority Mail Express, Priority Mail & First-Class Package Service Contract 2

Priority Mail Express, Priority Mail & First-Class Package Service Contract 5

Priority Mail Express, Priority Mail & First-Class Package Service Contract 6

Priority Mail Express, Priority Mail & First-Class Package Service Contract 7

Priority Mail Express, Priority Mail & First-Class Package Service Contract 8

Priority Mail Express, Priority Mail & First-Class Package Service Contract 9

Priority Mail Express, Priority Mail & First-Class Package Service Contract 10

Priority Mail Express, Priority Mail & First-Class Package Service Contract 11

Priority Mail Express, Priority Mail & First-Class Package Service Contract 12

Priority Mail Express, Priority Mail & First-Class Package Service Contract 13

Priority Mail Express, Priority Mail & First-Class Package Service Contract 14

Priority Mail Express, Priority Mail & First-Class Package Service Contract 15

Priority Mail & First-Class Package Service Contract 2

Priority Mail & First-Class Package Service Contract 4

Priority Mail & First-Class Package Service Contract 6

Priority Mail & First-Class Package Service Contract 7

Priority Mail & First-Class Package Service Contract 8

Priority Mail & First-Class Package Service Contract 9

Priority Mail & First-Class Package Service Contract 10

Priority Mail & First-Class Package Service Contract 11

Priority Mail & First-Class Package Service Contract 13

Priority Mail & First-Class Package Service Contract 15

Priority Mail & First-Class Package Service Contract 16

Priority Mail & First-Class Package Service Contract 17

Priority Mail & First-Class Package Service Contract 18

Priority Mail & First-Class Package Service Contract 19

Priority Mail & First-Class Package Service Contract 20

Priority Mail & First-Class Package Service Contract 21

Priority Mail & First-Class Package Service Contract 22

Priority Mail & First-Class Package Service Contract 23

Priority Mail & First-Class Package Service Contract 24

Priority Mail & First-Class Package Service Contract 25

Priority Mail & First-Class Package Service Contract 26

Priority Mail & First-Class Package Service Contract 27

Priority Mail & First-Class Package Service Contract 28

Priority Mail & First-Class Package Service Contract 29

Priority Mail & First-Class Package Service Contract 30

Priority Mail & First-Class Package Service Contract 31

Priority Mail & First-Class Package Service Contract 32

Priority Mail & First-Class Package Service Contract 33

Priority Mail & First-Class Package Service Contract 34

Priority Mail & First-Class Package Service Contract 35

Priority Mail & First-Class Package Service Contract 36

Priority Mail & First-Class Package Service Contract 37

Priority Mail & First-Class Package Service Contract 38

Priority Mail & First-Class Package Service Contract 39

Priority Mail & First-Class Package Service Contract 40

Priority Mail & First-Class Package Service Contract 41

Priority Mail & First-Class Package Service Contract 42

Priority Mail & Parcel Select Contract 1

Priority Mail & Parcel Select Contract 2

Outbound International*

Global Expedited Package Services (GEPS) Contracts

GEPS 3

GEPS 5

GEPS 6

GEPS 7

Global Bulk Economy (GBE) Contracts

Global Plus Contracts

Global Plus 1C

Global Plus 1D

Global Plus 2C

Global Plus 3

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Priority Mail International Regional Rate Boxes—Non-Published Rates

Outbound Competitive International Merchandise Return Service Agreement with Royal Mail Group, Ltd.

Priority Mail International Regional Rate Boxes Contracts

Priority Mail International Regional Rate Boxes Contracts 1

Competitive International Merchandise Return Service Agreements with Foreign Postal Operators

Competitive International Merchandise Return Service Agreements with Foreign Postal Operators 1

Competitive International Merchandise Return Service Agreements with Foreign Postal Operators 2

Alternative Delivery Provider (ADP) Contracts

ADP 1

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators

Inbound Competitive Multi-Service Agreements with Foreign Postal Operators 1

Special Services*

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services*

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests*

Customized Delivery

Global eCommerce Marketplace (GeM)

Stacy L. Ruble,
Secretary.

[FR Doc. 2017-08118 Filed 4-20-17; 8:45 am]

BILLING CODE 7710-FW-P